DEPARTMENT OF JUSTICE

Antitrust Division

Notice Pursuant to the National Cooperative Research and Production Act of 1993—Open Mobile Alliance

Notice is hereby given that, on May 12, 2005, pursuant to section 6(a) of the National Cooperative Research and Production Act of 1993, 15 U.S.C. 4301 et seq. (“the Act”), Open Mobile Alliance (“OMA”) filed written notifications simultaneously with the Attorney General and the Federal Trade Commission disclosing changes in its membership. The notifications were filed for the purpose of extending the Act's provisions limiting the recovery of antitrust plaintiffs to actual damages under specified circumstances. Specifically, 7 Layers AG, Ratingen, GERMANY; ACL Wireless, New Delhi, INDIA; Action Engine Corp., Redmond, WA; Adamind, Ra′anana, ISRAEL; Agere Systems Inc., Naperville, IL; Airwide Solutions Inc., Longueuil, Quebec, CANADA; Akumiitti, Helsinki, FINLAND; ALLTEL Communications, Inc., Little Rock, AR; Alterbox, Budapest, HUNGARY; Amplefuture Ltd., London, UNITED KINGDOM; Andrew Corporation, Ashburn, VA; Arasan Chip Systems Inc., San Jose, CA; AtomiZ S.A., Paris, FRANCE; Atsana Semiconductor, Ottawa, Ontario, CANADA; Auto TOOLS Group Co., Ltd., Taipei, TAIWAN; Bamboo MediaCasting, Kfar-Saba, ISRAEL; Beijing ZRRT Communications Technology Co., Ltd., Beijing, PEOPLE'S REPUBLIC OF CHINA; BorderWare Technologies Inc., Mississauga, Ontario, CANADA; Broadcom Corporation, Irvine, CA; Bytemobile, Inc., Mountain View, CA; Cambridge Positioning Systems Ltd., Cambridge, UNITED KINGDOM; Cellular GmbH, Hamburg, GERMANY; Celtius Oy, Helsinki, FINLAND; China Telecommunications Corporation, Beijing, PEOPLE'S REPUBLIC OF CHINA; China United Telecommunications Corporation, Beijing, PEOPLE'S REPUBLIC OF CHINA; Clickatell Ltd., Bellville, SOUTH AFRICA; ComEase Pte Ltd., Singapore, SINGAPORE; Communications Global Certification Inc., Tao-Yuan, TAIWAN; Connect Technologies Corporation, Tokyo, JAPAN; Consistec Engineering & Consulting, Saarbrucken, GERMANY; Core Mobility, Mountain View, CA; Cryptico A/S, Copenhagen, DENMARK; Danger, Inc., Palo Alto, CA; Darts Technologies Corporation, Chung Ho, TAIWAN; Dascom Technology, Beijing, PEOPLE'S REPUBLIC OF CHINA; Dittosoft Inc., Daegu, REPUBLIC OF KOREA; Dream Soft Co., Ltd., Daegu, REPUBLIC OF KOREA; DxO Labs, Boulogne, FRANCE; Eigel-Danielson, Monument, CO; Elcoteq Network Corporation, Salo, FINLAND; Electric Pocket, Pontyneryneydd, Torfaen, UNITED KINGDOM; Elisa, Elisa, FINLAND; EMCC Software Ltd., Manchester, UNITED KINGDOM; Emirates Telecommunications Corporation, Abu Dhabi, UNITED ARAB EMIRATES; End2End Mobile, Aalborg SV, DENMARK; ETS Dr. Genz GmbH, Reichenwalde, GERMANY; EXPWAY, Paris, FRANCE; FEELingk Co. Ltd., Seoul, REPUBLIC OF KOREA; Finjurdata, Rotkreuz, SWITZERLAND; Finnish Communications Regulatory Authority, Helsinki, FINLAND; Firsthop, Helsinki, FINLAND; Flash Newtworks, Herzlia, ISRAEL; Flextronics, Espoo, FINLAND; Fraunhofer Institut, Ilmenau, GERMANY; Freescale Semiconductor, Austin, TX; Funambol, Pavia, ITALY; Fusionsoft Co., Ltd., Daegu, REPUBLIC OF KOREA; Future Dial, Inc., Sunnyvale, CA; Gemini Mobile Technologies, Inc., San Mateo, CA; GeoTrust, Apharetta, GA; Greentube I.E.S. AG, Vienna, AUSTRIA; Hanmaro Co. Ltd., Seoul, REPUBLIC OF KOREA; Humit Co. Ltd., Seoul, REPUBLIC OF KOREA; IC3S Information, Computer and Solartechnik AG, Quickborn, GERMANY; Indagon, Helsinki, FINLAND; Ind-TeleSoft Private Limited, Koramangala, Bangalore, INDIA; Industrial Technology Research Institute, Hsinchu, TAIWAN; Infocity, Inc., Tokyo, JAPAN; Infraware, Seoul, REPUBLIC OF KOREA; Inka Entworks, Seoul, REPUBLIC OF KOREA; INNOACE Ltd., Seoul, REPUBLIC OF KOREA; InnoPath Software, Alviso, CA; INNVO Systems, Singapore, SINGAPORE; Institut for Rundfunktechnik, Munich, GERMANY; InterOP Technologies, LLC, Fort Myers, FL; IntroMobile Co., Ltd., Seoul, REPUBLIC OF KOREA; ipNetfusion, Richardson, TX; Irdeto Access B.V., Ka Moofodorp, NETHERLANDS; IXI Mobile, Inc., Ra′anana, ISRAEL; Jabber, Inc., Denver, CO; Kayak Interactive, Princeton, NJ; Kodiak Networks, San Ramon, CA; License Management International, LLC, Morgan Hill, CA; Locus Technologies, Seoul, REPUBLIC OF KOREA; Macrospace Limited, London, UNITED KINGDOM; MarkAny Inc., Seoul, REPUBLIC OF KOREA; Matchtip Limited, London, UNITED KINGDOM, Matrix Memory, Santa Clara, CA; Mobeon, Sundsvall, SWEDEN; Mobileleader, Seoul, REPUBLIC OF KOREA; MobileSoft Technology Co. Ltd., Nanjing, PEOPLE'S REPUBLIC OF CHINA; Mobilethink A/S, Arthus, DENMARK; MobileTop Co., Ltd., Seoul, REPUBLIC OF KOREA; Mobilkom Austria AG & Co. KG, Vienna, AUSTRIA; Mobivillage, Marseille, FRANCE; M-Systems Flash Disk Pioneers, Kfar Saba, ISRAEL; MtekVision Co. Ltd., Seoul, REPUBLIC OF KOREA; MTIS Co. Ltd., Daegu, REPUBLIC OF KOREA; NAGRAVISION, Cheseaux, SWITZERLAND; Navitime Japan Co., Ltd., Tokyo, JAPAN; NDS Israel, Jerusalem, ISRAEL; NeuStar Inc., Sterling, VA; NS Solutions Corporation, Tokyo, JAPAN; Nvision SA, Luxembourg, GERMANY; O3SIS Information Technology AG, Overath, GERMANY; Obexcode AS, Tromso, NORWAY; Optenet S.A., Madrid, SPAIN; Orative Corporation, San Jose, CA; Oxy Systems, Cambridge, MA; Pixel Technologies, Tel Aviv, ISRAEL; Polaris Wireless, Santa Clara, CA; Pollex Mobile Software Co. Ltd., Beijing, PEOPLE'S REPUBLIC OF CHINA; Purple Labs, Le Bourget de Lac, FRANCE; PurpleACE, Singapore, SINGAPORE; Quanta Computer Inc., Tao Yuan Shien, TAIWAN; Racal Instruments Wireless Solutions Ltd., Slough, UNITED KINGOM; Renesas Technology Corp., Chiyoda-ku, Tokyo, JAPAN; Rohde & Schwarz GmbH & Co. KG, Munich, GERMANY; Roundbox, Inc., Bridgewater, NJ; Sandisk, Sunnyvale, CA; Savaje Technologies, Chelmsford, MA; SCA Technica, Inc., Nashua, NH; Seoul Commtech Co. Ltd., Seoul, REPUBLIC OF KOREA; Setcom Wireless Products GmbH, Munich, GERMANY; Sicap, Koeniz, SWITZERLAND; Sky MobileMedia, San Diego, CA; Smartfone Limited, North Point, HONG KONG; Spansion, Sunnyvale, CA; Sporton International Inc., TaoYuan Hsien, TAIWAN; Spreadtrum Communications Ltd., Shanghai, PEOPLE'S REPUBLIC OF CHINA; Streamezzo, Paris, FRANCE; Swapcom, Lyon, FRANCE; Symbol Technologies, Inc., San Jose, CA; Synchronica Software GmbH, Berlin, GERMANY; Tactel AB, Jonkoping, SWEDEN; TAO Group, Reading, UNITED KINGDOM; TCL & Alcatel Mobile Phones, Colombes Cedex, FRANCE; Telematica Instituut, An Enschede, NETHERLANDS; Thin Multimedia, Inc., Seoul, REPUBLIC OF KOREA; TRA Telecommunications Research Associates, Glen Ellyn, IL; Tridea Works, LLC, Chantilly, VA; UK Department of Trade and Industry, London, UNITED KINGDOM; UniqMinds Ltd., Helsinki, FINLAND; University of Wollongong, Wollongong, AUSTRALIA; UTStarcom, Inc., Alameda, CA; Viaccess SA, Paris, FRANCE; VIDA Software, S.L., Barcelona, SPAIN; Vidiator, Bellevue, WA; Vigyana, Santa Clara, CA; Vimicro Corporation, Beijing, PEOPLE'S REPUBLIC OF CHINA; Vimio AB, Umea, SWEDEN; Volantis Systems, Ltd., Guildford, Surrey, UNITED KINGDOM; Waterford Institute of Technology, Waterford, IRELAND; Widevine Technologies, Inc., Seattle, WA; Wipro Limited, Kamataka, INDIA; Wireless Technologies Oy, Espoo, FINLAND; Wireless Zeta Telecommunicaciones, S.L., Sanse, SPAIN; Wisegram Inc., Seoul, REPUBLIC OF KOREA; Wmode Inc., Calgary, Alberta, CANADA; XCE Co. Ltd., Seoul, REPUBLIC OF KOREA; Xiam Limited, Dublin, IRELAND; and Xiamen Scan Technology Co. Ltd., Xiamen, PEOPLE'S REPUBLIC OF CHINA, have been added as parties to this venture.

Also, 4thpass Inc., Seattle, WA; Accenture, Chicago, IL; Agilemobile.com Co. Ltd., Bangkok, THAILAND; Amdocs, Limmasol 3307, CYPRUS; Amdocs Ltd., Ra'anana, ISRAEL; AQRIS Software AS, Tallinn, ESTONIA; AT&T Wireless Services, Redmond, WA; Atchik, Toulous, FRANCE; Autodesk Location Services, San Rafel, CA; Bechtel Telecommunications, Frederick, MD; Beijing Cathyshy Digit-Fun Co., Ltd., Beijing, PEOPLE'S REPUBLIC OF CHINA; Beijing Haui Network Technology Co. Ltd., Beijing, PEOPLE'S REPUBLIC OF CHINA; Bellwave Co., Ltd., Seoul, REPUBLIC OF KOREA; BlueFactory, Stockholm, SWEDEN; Boompoint Wireless Solutions, Bellevue, WA; Borland Software Corporation, Scotts Valley, CA; Bosch, Stuttgart, GERMANY; Camelot Group plc, Watford, Herts, UNITED KINGDOM; Cap Gemini Ernest & Young, Paris, FRANCE; Casabyte Inc., Renton, WA; Catalytic Software Ltd., Hyderabad, INDIA; Charles Schwab & Co., Inc., San Francisco, CA; Chunghwa Telecom Co., Ltd. Mobile Business Group, Taipei City, TAIWAN; Consero ApS, Aalborg, DENMARK; Consilient Technologies Corporation, St. John's, Ontario, CANADA; Contect Innovations Inc., Port Coquitlam, British Columbia, CANADA; Critical Path, Inc., San Francisco, CA; Deccanet Designs Ltd., Bangalore, INDIA; DHL Worldwide Network NV/SA, Diegem-Machelen, BELGIUM; DigiCAPS, Seoul, REPUBLIC OF KOREA; Digital World Services, New York, NY; DoOnGo Technologies, Inc., Santa Clara, CA; E28 (Shanghai) Ltd., Shanghai, PEOPLE'S REPUBLIC OF CHINA; elata Ltd., Poole, Dorset, UNITED KINGDOM; Elvior, Tallinn, ESTONIA; Emblaze Systems, Ra'anana, ISRAEL; Empower Interactive Group, Ltd., London, UNITED KINGDOM; Enea Data AB, Taby, SWEDEN; Exit Games GMBH, Hamburg, GERMANY; EZOS, Braine-L'alleud, BELGIUM; FarEasTone Telecommunications Co., Ltd., Taipei Hsien, TAIWAN; Fasoo.com Co., Ltd., Seoul, REPUBLIC OF KOREA; Fenestrae B.V., The Hague, NETHERLANDS; France Telecom Group, Paris, FRANCE; Fraunhofer Institute SIT, Darmstadt, GERMANY; Glenayre Electronics, Duluth, GA; Global Consulting Touch Iberica, S.L., Madrid, SPAIN; Green Cathedral plc, Westwick, Cambridge, UNITED KINGDOM; Harbottle & Lewis, London, UNITED KINGDOM; iaSolution Inc., Taipei, TAIWAN; Idetic, Inc., Berkeley, CA; IGEL Co., Ltd., Tokyo, JAPAN; Incomit AB, Karlstad, SWEDEN; Infobank Corporation, Seoul, REPUBLIC OF KOREA; Infovide, Warsaw, POLAND; Invertix Corporation, Annandale, VA; JP Mobile, Inc., Dallas, TX; July Systems, Inc., Sunnyvale, CA; Kada Systems, Inc., Burlington, MA; K-Mobile, Paris, FRANCE; Korea Information Security Agency, Seoul, REPUBLIC OF KOREA; Kuulalaarkeri Oy, Turka, FINLAND; Liteon Technology, Taipei Hsien, TAIWAN; Lockstream Corporation, Bellevue, WA; Mediachorus Inc., Seoul, REPUBLIC OF KOREA; Melodeo, Inc., Hammersmith, UNITED KINGDOM; Meridea Financial Software Oy, Helsinki, FINLAND; Miranet AB, Tyres, SWEDEN; MiTAC International Corp., Taipei, TAIWAN; MobiLab Co., Ltd., Daegu, REPUBLIC OF KOREA; Mobile GIS Ltd., Glanmire-Country Cork, IRELAND; Mobile www, LLC, Boca Raton, FL; MobileIQ Information Technologies, Ltd., Shanghai, PEOPLE'S REPUBLIC OF CHINA; Mobile-Mind, Inc., Watertown, MA; Mobitek Communication Corp., Taipei, TAIWAN; Mobitel D.D., Ljubigana, SLOVENIA; MoCore Mobile Software Co., Ltd., Shenzhen, PEOPLE'S REPUBLIC OF CHINA; Netsize, Paris, FRANCE; Newbay Software, Dublin, IRELAND; NextGen Media Alliance, New Delhi, INDIA; Nordea Bank, Nordea-Merita, FINLAND; Northstram AB, Stockholm, SWEDEN; Novell Inc., San Jose, CA; Open Bit Oy Ltd., Tampere, FINLAND; ParthusCeva, Inc., San Jose, CA; Partner Communications Company Ltd., Rosh Ha'ayin, ISRAEL; P-Cube Ltd., Herzliya, ISRAEL; Peramon Technology Ltd., Reading, UNITED KINGDOM; PictureIQ Corporation, Seattle, WA; Pixo, Inc., San Jose, CA; Plastixense AB, Maimo, SWEDEN; Radiolinja Oy, Espo, FINLAND; Radvision, Tel Aviv, ISRAEL; Real Networks, Inc., Seattle, WA; Reaxion Corporation, Seattle, WA; Reliance Infocomm Limited, Navi Mumbai, INDIA; Sanyo Electric Co., Ltd., Oaka, JAPAN; Sarnoff Corporation, Princeton, NJ; SealTronic Technology, Inc., Seoul, REPUBLIC OF KOREA; Sharp Robot Inc., Toronto, Ontario, CANADA; Sierra Wireless, Richmond, British Columbia, CANADA; Simbit Corporation, Ottawa, Ontario, CANADA; Sinpag, Saint Maur des Fosses, FRANCE; SMART Communications, Inc., Makati City, PHILIPPINES; Smart Fusion SAS, Mougins Sedex, FRANCE; Spontaneous Technology, Salt Lake City, UT; Standard Inside Ltd., Holon, ISRAEL; StarHub Pte Ltd., Singapore, SINGAPORE; SupportSoft Inc., Redwood City, CA; Technonia Inc., Seoul, REPUBLIC OF KOREA; Tecnosistemas, San Pedro, COSTA RICA; Telephia, San Francisco, CA; Telespree Communications, San Francisco, CA; Teltier Technologies, Clark, NJ; The Open Group, Reading, UNITED KINGDOM; The Walt Disney Company Limited, London, UNITED KINGDOM; Togabi, San Diego, CA; Trigenix, Cambridge, UNITED KINGDOM; Ulead Systems, Inc., Taipei 114, TAIWAN; Utilicom Inc., Mt. Laurel, NJ; UP Techology, Beijing, PEOPLE'S REPUBLIC OF CHINA; VerdiSoft Corporation, Chicago, IL; Viderent, Inc., Lugano, SWITZERLAND; Vilkas Ltd., Seattle, WA; Vimatix Ltd., Westminister, CO; Virgin Mobile, Berlin, GERMANY; Visa International, Tuunga, CA; Voyant Technologies, Inc., Redwood City, CA; WaterCove Networks, Galway, IRELAND; Weblicon Technologies AG, Redwood City, CA; Webmessenger, Inc., Tuunga, CA; Webraska Mobile Technologies, Maisons-Laffitte Cedex, FRANCE; Websoft International Inc., Tokyo, JAPAN; Wirlex Soft, Toronto, Ontario, CANADA; Wysdom Inc., Toronto, Ontario, CANADA; Yamaha Corporation, Hamamatsu, JAPAN; YellowPepper Wireless LLC, Redwood City, CA; YQA Now Ltd., Galway, IRELAND; and Zentek Techology, Inc., Redwood City, CA have withdrawn as parties to this venture.

Also, Tomorrow Focus AG has changed its name to Cellular GmbH, Hamburg, GERMANY; Cognizant Techology Solutions UK Ltd. has changed its name to Cognizant Techology Solutions Ltd., London, UNITED KINGDOM; Chaoticom, Inc., has changed its name to Groove Mobile, Inc., Andover, MA; 3 has changed its name to Hutchinson 3G UK Ltd., Hong Kong, HONG KONG-CHINA; ZoomOn has changed its name to Ikivo AB, Stockholm, SWEDEN; Pumatech has changed its name to Intellisync, San Jose, CA; Acotel has changed its name to Jinny Software Ltd., Dublin, IRELAND; KT Icom has changed its name to KTF, Seoul, REPUBLIC OF KOREA; Network Associates, Inc., has changed its name to McAfee, Inc., Santa Clara, CA; InphoMatch, Inc., has changed its name to Mobile 365, Chantilly, VA; BSI Co., Ltd., has changed its name to Next Com KK, Tokyo, JAPAN; mm02 has changed its name to 02, Slough, UNITED KINGDOM; Teleca Mobile Technologies has changed its name to Obigo AB, Lund, SWEDEN; Oracle Corporation has changed its name to Oracle USA, Inc., Redwood Shores, CA; Hopen Software Engineering Co., Ltd., has changed its name to Pollex Mobile Software Co., Ltd., Beijing, PEOPLE'S REPUBLIC OF CHINA; Smartner Information Sytems, Ltd., has changed its name to SEVEN, Helsinki, FINLAND; Cegetel/SFR “Societe Francaise du Radiotelephone” has changed its name to SFR, Paris, FRANCE; Telcordia Technologies, Inc., has changed its name to Telcordia, Piscataway, NJ; and Cash-U Mobile Technologies Ltd. has changed its name to Uniper, Netanya, ISRAEL.

No other changes have been made in either the membership or planned activity of the group research project. Membership in this group research project remains open, and OMA intends to file additional written notification disclosing all changes in membership.

On March 18, 1998, OMA filed its original notification pursuant to Section 6(a) of the Act. The Department of Justice published a notice in the Federal Register pursuant to Section 6(b) of the Act on December 31, 1998 (63 FR 72333).

The last notification was filed with the Department on July 7, 2003. A notice was published in the Federal Register pursuant to Section 6(b) of the Act on September 26, 2003 (68 FR 55657).

Dorothy B. Fountain,
Deputy Director of Operations, Antitrust Division.

[FR Doc. 05-17161 Filed 8-29-05; 8:45 am]

BILLING CODE 4410-11-M